DEPARTMENT OF STATE

[Public Notice 4926]

Notice of Meeting of the Cultural Property Advisory Committee

In accordance with the provisions of the Convention on Cultural Property Implementation Act (19 U.S.C. 2601 et seq.) there will be a meeting of the Cultural Property Advisory Committee on Thursday, February 17, 2005, from approximately 9 a.m. to 5 p.m., and on Friday, February 18, 2005, from approximately 9 a.m. to 2 p.m., at the Department of State, Annex 44, Room 840, 301 4th St., SW., Washington, DC. During its meeting the Committee will review a request from the Government of the People's Republic of China to the Government of the United States of America. Concerned that its cultural heritage is in jeopardy from pillage, the government of the People's Republic of China made this request under Article 9 of the 1970 UNESCO Convention. The request seeks U.S. import restrictions on Chinese archaeological material from the Paleolithic to the Qing Dynasty. A public summary of this request can be found at http://exchanges.state.gov. A Federal Register notice of receipt of this request, published on September 3, 2004, can also be found at this Web site.

The Committee's responsibilities are carried out in accordance with provisions of the Convention on Cultural Property Implementation Act (19 U.S.C. 2601 et seq.). The text of the Act, a public summary of this request, and related information may be found at http://exchanges.state.gov/culprop. Portions of the meeting on February 17 and 18 will be closed pursuant to 5 U.S.C. 552b(c)(9)(B) and 19 U.S.C. 2605(h). However, on February 17, the Committee will hold an open session, approximately 1 p.m. to 3:30 p.m., to receive oral public comment on the China request. Persons wishing to attend this open session should notify the Cultural Heritage Center of the Department of State at (202) 619-6612 by Friday, February 4, 2005, 5 p.m. (e.s.t.) to arrange for admission, as seating is limited.

Those who wish to make oral presentations should request to be scheduled and submit a written text of the oral comments by Friday, February 4, to allow time for distribution of these comments to Committee members for their review prior to the meeting. Oral comments will be limited to five minutes each to allow time for questions from members of the Committee and must specifically address the determinations under Section 303(a)(1) of the Convention on Cultural Property Implementation Act, 19 U.S.C. 2602, pursuant to which the Committee must make findings. This citation for the determinations can be found at the Web site noted above.

The Committee also invites written comments and asks that they be submitted no later than February 4, 2005. All written materials, including the written texts of oral statements, should be faxed to (202) 260-4893, if 5 pages or less. Written comments greater than five pages must be mailed (20 copies) to Cultural Heritage Center, Department of State Annex 44, 301 4th St., SW., Rm. 334, Washington, DC 20547. Express mail is recommended for timely delivery.

Dated: December 16, 2004.
Patricia S. Harrison,
Assistant Secretary for Educational and Cultural Affairs, Department of State.

[FR Doc. 04-28391 Filed 12-27-04; 8:45 am]

BILLING CODE 4710-05-P